DEPARTMENT OF COMMERCE

National Oceanic and Atmospheric Administration

Agency Information Collection Activities; Submission to the Office of Management and Budget (OMB) for Review and Approval; Comment Request; Northeast Multispecies Reporting Requirements.

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 17, 2021 during a 60-day comment period. This notice allows for an additional 30 days for public comments.

Agency: National Oceanic and Atmospheric Administration (NOAA), Commerce.

Title: Northeast Multispecies Reporting Requirements

OMB Control Number: 0648-0605.

Form Number(s): None.

Type of Request: Regular submission [revision and extension of a current information collection].

Number of Respondents: 1,339.

Average Hours per Response: Sector Operations Plan & Annual Membership List Updates, 110 hours; Monitoring & Reporting Service Providers Application & Response to Denial, 10 hours; Monitoring System (database) for Discards, Sector Manager Weekly Catch Reports & Annual Reports, 18 minutes; Notification of Ejection from Sector; 30 minutes; Transfer of Annual Catch Entitlement between Sectors, 5 minutes; Area & DAS Declaration—Groundfish Vessels Fishing under any NE Multispecies DAS, 5 minutes; VMS Daily Catch Reports—Average 5-day Length Trips, 15 minutes; Catch Reporting Requirements: US/Canada Area, CA II SAPs, Close Area I SAP, and Regular B Program, 15 minutes; At-Sea Monitoring & Reporting Requirements—Notifications & Database Requirements & Monitoring Costs, 24 minutes; NE Fishery Observer Notification, 5 minutes; Trip Start/End Hails, 5 minutes; DAS Transfer Program, 5 minutes; Submission of Proposed Special Access Program (SAP), 20 hours; Northwest Atlantic Fisheries Organization (NAFO) Reporting Requirements, 22.75 hours; DAS Leasing Request Form, 5 minutes; DAS Downgrade Request, 5 minutes; VMS Trip Catch Reports—1 Day or Less Trips, 15 minutes; Electronic Monitoring Program Requirements, 9 hours; NAFO—Daily Observer Catch Report Information, 6 minutes.

Total Annual Burden Hours: 196,983.

Needs and Uses: This request is for the revision and extension of a current information collection. Under the Magnuson-Stevens Fishery Conservation and Management Act (Magnuson-Stevens Act), the Secretary of Commerce has the responsibility for the conservation and management of marine fishery resources. We, National Oceanic and Atmospheric Administration's (NOAA) National Marine Fisheries Service (NMFS), and the Regional Fishery Management Councils are delegated the majority of this responsibility. The New England Fishery Management Council (Council) develops management plans for fishery resources in New England.

In 2010, we implemented a new suite of regulations for the Northeast (NE) multispecies fishery through Amendment 16 to the NE Multispecies Fishery Management Plan (FMP). This action updated status determination criteria for all regulated NE multispecies or ocean pout stocks; adopted rebuilding programs for NE multispecies (groundfish) stocks newly classified as being overfished and subject to overfishing; revised management measures, including significant revisions to the sector management measures (established under Amendment 13) necessary to end overfishing, rebuild overfished regulated NE multispecies and ocean pout stocks, and mitigate the adverse economic impacts of increased effort controls. It also implemented new requirements under Amendment 16 for establishing acceptable biological catch, annual catch limits (ACLs), and accountability measures for each stock managed under the FMP, pursuant to the Magnuson-Stevens Act.

Sectors are a management tool in the groundfish fishery. A sector consists of three or more limited access NE multispecies vessel permits, with distinct ownership, who voluntarily enter into a contract to manage their fishing operations and to share liability. A sector is granted an annual allocation of most stocks of fish managed by the NE Multispecies FMP. In return for increased operational flexibility, such as exemptions from certain effort controls and the ability to pool and trade quota, sectors have additional reporting and monitoring requirements. The sector reporting and monitoring requirements, as established by Amendment 16 and revised by subsequent framework adjustments to the NE Multispecies FMP, are contained within this information collection.

This revision incorporates a number of recent changes. Amendment 16 required sectors to develop and fund an independent third-party at-sea monitoring (ASM) program. Amendment 16 allowed sectors to use electronic monitoring (EM) instead of human monitors to meet ASM requirements, provided that the Greater Atlantic Regional Administrator deemed it sufficient. Using the authority and process granted to the agency in Amendment 16, NMFS announced its determination that sectors may use EM to meet monitoring requirements (86 FR 16686; March 31, 2021). To implement this change, we are proposing to collect additional data elements necessary to support an electronic monitoring program. Specifically, we propose to require the development and submission of vessel monitoring plans and trip-level feedback reports, both of which are critical for accurate catch data and management of ACLs. We also propose to require the collection of information related to the purchase and installation of EM equipment. This is necessary for NMFS to reimburse industry's ASM costs as directed and funded by Congressional appropriations.

In 2020, the Northwest Atlantic Fisheries Organization (NAFO) established a new requirement that vessels fishing in the NAFO Regulatory Area must submit daily catch reports via a vessel monitoring system (VMS) and NMFS implemented this requirement to ensure compliance with NAFO reporting requirements. Daily VMS catch reports allow for near real-time quota monitoring and are necessary for the management of ACLs.

This revision removes information collections related to VMS activation confirmation responses, time and costs, and the cost of purchase, maintenance and automated polling, which was transferred to OMB control number 0648-0202. This revision also removes the Closed Area I Hook Gear Haddock SAP from the US/Canada Area and CA II SAPS, Closed Area I SAP and Regular B Program catch reporting estimates because NMFS removed the regulations implementing this SAP after it was eliminated as part of the Omnibus Essential Fish Habitat Amendment 2 (85 FR 19129; April 6, 2020).

Affected Public: Business or other for-profit organizations.

Frequency: Frequency varies from collection to collection (e.g., annual, per trip, weekly).

Respondent's Obligation: Obligation varies from collection to collection (e.g., mandatory, voluntary, required to retain benefits).

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0605.

Sheleen Dumas,
Department PRA Clearance Officer, Office of the Chief Information Officer, Commerce Department.

[FR Doc. 2022-06169 Filed 3-22-22; 8:45 am]

BILLING CODE 3510-22-P